DEPARTMENT OF JUSTICE

Office of Juvenile Justice and Delinquency Prevention

[OJP(OJJDP)-1352]

Program Announcement for Targeted Community Action Planning: An Intensive Technical Assistance Program

AGENCY: Office of Juvenile Justice and Delinquency Prevention, Office of Justice Programs, Justice.

ACTION: Notice of solicitation.

SUMMARY: The Office of Juvenile Justice and Delinquency Prevention (OJJDP) is requesting applications for the Targeted Community Action Planning (TCAP) Technical Assistance Program, which will support the delinquency prevention efforts of States, communities, and Federally recognized Indian Tribes and Alaska Native groups. OJJDP will select one organization to provide intensive training and technical assistance to support at least 15 selected jurisdictions to help them develop and deliver a targeted response to their most pressing juvenile justice issues. The TCAP effort further advances OJJDP's mission to provide national leadership, coordination, and resources to develop, implement, and support effective methods to prevent juvenile delinquency and respond appropriately to juvenile victimization. This mission is accomplished through prevention programs and a juvenile justice system that protects public safety, holds juvenile offenders accountable, and provides treatment and rehabilitative services based on the needs of individuals.

DATES: Applications must be received by September 3, 2002.

ADDRESSES: All application packages should be mailed or delivered to the Office of Juvenile Justice and Delinquency Prevention, c/o Juvenile Justice Resource Center, 2277 Research Boulevard, Mail Stop 2K, Rockville, MD 20850; 301-519-5535. Faxed or e-mailed applications will not be accepted. (See “Delivery Instructions” below for additional information.) Interested applicants can obtain the OJJDP Application Kit from the Juvenile Justice Clearinghouse at 800-638-8736. The Application Kit is also available at OJJDP's Web site at www.ojjdp.ncjrs.org/grants/about.html#kit. (See “Application Format” in this program announcement for instructions on application standards.)

FOR FURTHER INFORMATION CONTACT: Dennis M. Mondoro, Program Manager, State and Tribal Assistance Division, Office of Juvenile Justice and Delinquency Prevention, 202-514-3913. (This is not a toll-free number.)

SUPPLEMENTARY INFORMATION:

Purpose

The purpose of this program is to improve delinquency prevention efforts and the juvenile justice system by providing intensive technical assistance to jurisdictions that is community-based, results oriented, and the product of best practices and promising programs nationwide.

Background

Since 1993, OJJDP has been engaged in the development of a comprehensive, community-based planning initiative, the Comprehensive Strategy. In 1996, in partnership with Developmental Research and Programs, Inc. (DRP), and the National Council on Crime and Delinquency (NCCD), OJJDP began intensive Comprehensive Strategy training and technical assistance in three pilot sites: San Diego County, CA; Lee County, FL; and Duval County, FL. OJJDP continued to expand the Comprehensive Strategy initiative in 1997 by selecting five States (Florida, Iowa, Maryland, Rhode Island, and Texas) to receive the intensive training and technical assistance. In 1998, OJJDP selected three additional States (Ohio, Oregon, and Wisconsin). In 2000, OJJDP expanded the Comprehensive Strategy by providing additional training and technical assistance to Hawaii, Kentucky, New Jersey, and Oklahoma. The Comprehensive Strategy training and technical assistance initiative strove to mobilize communities to create a multidisciplinary continuum of care that would provide timely, effective, and appropriate responses to their prevention, intervention, and graduated sanctions needs.

Community and agency leaders are an essential component of any effort made to effect social change. Leaders are needed not only to champion the planning effort, but also to leverage the required resources. Because the Comprehensive Strategy planning process required a significant time commitment from participants and a considerable planning phase (typically 9-12 months) before a community could move to action, maintaining the initial momentum was difficult. Constant changes in the structure of the planning team and in the makeup of the community's key leaders frustrated the strategy's objectives. For these reasons, OJJDP re-evaluated the Comprehensive Strategy planning process.

Based on information gathered during the national evaluation of the Comprehensive Strategy, OJJDP revised the existing community planning initiative by shortening the planning process and focusing on the implementation of an action plan. OJJDP's Targeted Community Action Planning (TCAP) effort is designed to help communities assess their juvenile justice and delinquency prevention needs and identify effective interventions. Using the best available program models and strategies, TCAP will provide intensive technical assistance to help communities develop a targeted response to the juvenile justice issues identified by community leaders as the most critical.

Planning Process

The following results-oriented planning process has been developed to help communities plan for action:

Diagnostic Assessment

The diagnostic assessment provides OJJDP and its consultants with basic information about the site before they enter a community. Information gathered during this phase includes readily available crime and delinquency data; risk factor data; information on past and current Federal, State, and local initiatives (e.g., Weed and Seed, America's Promise, Title V); existing community plans; State juvenile justice priorities (i.e., legislative mandates); and information on weaknesses and/or gaps in a community's comprehensive continuum of services for youth, from neonatal care to intensive juvenile aftercare services. During this phase, it is important to identify the key stakeholders and community leaders who will be included in the planning process.

Key Leader Interviews

Interviews of key community leaders are crucial to developing relationships and building capacity prior to the summit of key community leaders (see below). Interviews allow communities to gather information, build support, and review and analyze available services, resources, funding, and existing statutes and policies. The interview process is necessary to develop a thorough and accurate understanding of a community's strengths, weaknesses, opportunities, obstacles, and demographics, particularly as these factors relate to the continuum of services available to children and families in the community.

Key Leader Summit

The summit of key leaders offers an opportunity for a community's key stakeholders and policymakers to share their concerns. The summit will establish a community vision and allow participants to identify critical issues in the community (e.g., juvenile justice system needs, problem behaviors, crime, risk factors, or lack of available resources). Participants will also discuss obstacles that prevent them from attaining their agency's mission. The goal of the summit is for key leaders to prioritize their community's most pressing juvenile justice needs.

Development of the Targeted Response

Developing a targeted response brings the community together to work toward achieving the community vision that was established during the key leader summit. During this phase, data on specific risk factors, information on resource assessment, and statistics on problem behaviors and crime are gathered to legitimize the areas of concern identified during the summit of key leaders. A community's targeted response should use strategies and concepts of best practices and promising programs nationwide, and it should include identified goals, clear roles and responsibilities, measurable objectives, and evaluation components. In addition, the targeted response should integrate the comprehensive strategic planning framework into the ongoing operations of the continuum of services for youth and their families.

Goals

This program has two primary goals:

• To help interested States, communities, and American Indian Tribes and Alaska Native groups assess their juvenile justice issues and develop targeted responses that reduce juvenile delinquency and victimization and improve the juvenile justice system.

• To enhance the awareness of promising approaches and successful strategies to reduce juvenile delinquency and improve the juvenile justice system.

Objectives

To accomplish these goals, the TCAP effort will do the following:

• Conduct diagnostic assessments of selected communities. Assessments will include readily available crime and delinquency data; risk factor data; information on past and current Federal, State, and local initiatives (e.g. Weed and Seed, America's Promise, Title V); existing community plans; State juvenile justice priorities (e.g., legislative mandates); and information on weaknesses and/or gaps in a community's comprehensive continuum of services for youth from neonatal care to intensive juvenile aftercare services.

• Conduct key leader interviews to gather additional information and support that will lead to community action. Interviews will continue the review and analysis process: available services, resources, and funding will be considered, as will the existing statutes and policies required to develop a thorough and accurate understanding of the strengths, weaknesses, opportunities, obstacles, and demographics of the entire continuum of services available to children and their families in the community.

• Facilitate key leader summits to provide all key stakeholders and policymakers with an opportunity to identify their most pressing juvenile delinquency concerns.

• Develop targeted responses that are based on the best possible program models (e.g.,the Prenatal and Infancy Home Visitation by Nurses Program). TCAP must promote the concepts and strategies of promising programs and best practices in the areas of prevention, intervention, and graduated sanctions.

• Further develop a planning process that allows communities to access and use resources and tools without lengthy onsite training and technical assistance.

• Identify and work with existing local infrastructure (e.g., local colleges or universities) that will provide planning support to the community throughout the extended planning process.

• Develop and train people in more efficient ways to retrieve, analyze, and display usable data for collaborative decisionmaking and interagency information management. Provide information regarding national indicator data, comparison data, and additional options for mapping local conditions and resources.

• Provide technical assistance on how to develop action plans for target audiences within the community. These plans may include service and mental health providers, educators, law enforcement officers, court personnel, detention and corrections representatives, parks and recreation staff, and policymakers.

• Apply geomapping instruments to assist with data collection and resource mapping for target areas, neighborhoods, or specific geographic/service areas and to promote research, evaluation, development, and dissemination of geographic information systems technology and the spatial analysis of crime.

• Provide training with customized and indepth program information relevant to the community's identified gaps in service, areas of need, and intended program enhancements (e.g., gender-specific program development, plans to address the disproportionate level of minorities in confinement, and mental health needs).

• Provide an overview of selected Blueprints for Violence Prevention and other identified promising programs that present practical descriptions of effective programs. This overview is intended to help States, communities, and individual agencies to (1) determine the appropriateness of this intervention for their State or community, (2) provide a realistic cost estimate for this intervention, (3) provide an assessment of the organizational capacity needed to ensure successful program startup and operation over time, and (4) indicate the potential barriers and obstacles that might be encountered when attempting to implement this type of intervention.

Telephone technical assistance and other support efforts will be coordinated with representative from OJJDP's State and Tribal Assistance Division (STAD). Technical assistance will be provided in the areas of prevention, intervention, and graduated sanctions and will guide the States and sites in implementing the strategic plans. All technical assistance requests will be coordinated with STAD. The technical assistance provider may be directed to perform other tasks, including gathering State/site specific data, identifying resources, and assisting in the revision of strategic plans.

Program Strategy

OJJDP will competitively select one organization to provide intensive TCAP technical assistance for the first 12-month budget period of the 3-year project period. Through a cooperative agreement, the organization will support 10-15 selected jurisdictions interested in reallocating resources and developing a targeted community response to their most pressing juvenile justice issues. Communities eligible for TCAP assistance will have the following characteristics:

• An identified high rate of juvenile crime and delinquency.

• A population of no more than 250,000. In a city larger than 250,000, the community population may be defined as that of a specific quadrant or zip code area.

• An existing local decisionmaking component or community champion who can convene key community leaders.

Applicants must clearly demonstrate (1) experience in the delivery and management of national, multifaceted training and technical assistance programs and (2) expertise in the areas of juvenile delinquency prevention, intervention, immediate sanctions, corrections, and, specifically, reentry. Applicants must also display an understanding of the challenges that exist in the field of juvenile delinquency prevention programming and juvenile justice system improvement. Applicants are encouraged to be creative in their approach to designing and delivering technical assistance and training; however, they should also exhibit an understanding of the resources and obstacles involved in implementing a juvenile justice action planning effort. Applications must include detailed plans for implementing training and technical assistance, including measurable goals and objectives. Applicants should indicate how they will use electronic mediums to provide training and technical assistance via teleconferencing and other Internet-based modalities.

Performance Measurement

With the enactment of the Juvenile Justice and Delinquency Prevention Act in 1974, Congress established a Formula Grant Program within OJJDP. The program is managed by OJJDP's State and Tribal Assistance Division (STAD) and provides grant funds and technical assistance to participating States and territories to help them implement the provisions of the Act. The provisions include deinstitutionalizing status offenders, separating juveniles and adult offenders, removing juveniles from adult jails and lockups, monitoring compliance with the Act, and implementing programs that support advanced techniques in juvenile justice and delinquency prevention (Section 223[a][10]).

To enhance States' ability to meet the requirements of the Act, OJJDP has developed the TCAP effort to provide support for local community planning and program implementation.

To ensure compliance with the Government Performance and Results Act (GPRA), Pubic Law 103-62, this solicitation notifies applicants that they are required to collect and report on data that measure the results of the program implemented by the grant. To ensure accountability of this data, for which OJJDP is responsible, the following performance measures are provided.

In years one and two, the TCAP Provider will be required to collect the following performance-related data:

• The number of jurisdictions provided with training.

• The number of jurisdictions provided with technical support.

• The number of targeted responses (e.g., comprehensive strategic planning, best practices, measurable objectives) to pressing juvenile justice issues, including summary written documentation regarding the jurisdictions.

Additionally, a peer review panel will be used at the beginning of year two to assess the implementation of the local plans (or targeted responses) developed in year one. Local impact evaluation methodology must be established at this stage in order for the sites to receive further assistance.

At the end of year 2, and prior to drawing down third year funds, the TCAP grantee will submit to a peer review panel approved by OJJDP one action plan from each TCAP community. The peer review panel will assess the community's progress in implementing the local plan and evaluation and will recommend the level of assistance that should be provided in the third and final year.

In year three, the TCAP Provider will continue to render onsite assistance, as approved by OJJDP, and will provide OJJDP with a written report describing the progress made by each community in implementing its action plan. Progress will be measured according to milestones articulated in the individual plans.

OJJDP will coordinate the program evaluations in local jurisdictions with the selected TCAP Provider. Quarterly progress reports will be required from the TCAP Provider for the duration of the project. The quarterly reports, which will include impact data that have been identified during the peer review process, will measure each local jurisdiction's progress toward implementing its targeted responses to pressing juvenile justice issues. Data collected from the TCAP Provider will provide crucial baseline data necessary for a national evaluation, contingent on funding, of the TCAP effort.

Deliverables

In addition to the deliverables identified in the strategy and content of the technical assistance design, the following deliverables are required during the 3-year period:

Year 1

• A protocol for delivering intensive training and technical assistance to selected sites.

• Testing and refinement of the technical assistance protocol with the targeted sites.

• Delivery of intensive training and technical assistance to support 10-15 selected jurisdictions in developing a targeted response to their most pressing juvenile justice needs.

• A monograph that lists and categorizes the range of programs for prevention and graduated sanctions in use within the communities and that identifies those that are most effective and worthy of replication.

• A draft of a proposed manual that delineates the design specifications of the proven effective elements that contribute to successful programs for prevention, intervention, immediate sanctions, corrections, and reentry, along with instructions for community implementation.

• Development of up to three technical assistance Bulletins, articles, Fact Sheets, or briefs about existing TCAP efforts.

Year 2

• Testing and refinement of the technical assistance protocol with the targeted sites.

• Delivery of intensive training and technical assistance to support 10-15 additional jurisdictions in developing a targeted response to their most pressing juvenile justice needs.

• A monograph that lists and categorizes the range of programs for prevention and graduated sanctions in use within the communities and that identifies those that are most effective and worthy of replication.

• The final draft manual that delineates the design specifications of the proven effective elements that contribute to successful programs for prevention, intervention, immediate sanctions, corrections, and reentry, along with instructions for community implementation.

• Development of up to three technical assistance Bulletins, articles, Fact Sheets, or briefs about existing TCAP efforts.

• Training about the TCAP effort delivered at a minimum of four events, which may include presentations at local, regional, State, or national training conferences.

Year 3

• Assessments of sites' progress in implementing action plans developed by the TCAP assistance previously provided.

• Additional deliverables to be identified based on the needs of the sites.

Guiding Principles

Technical assistance and training will be developed according to the following principles:

• Design and deliver the training and technical assistance in a manner that empowers local communities to implement programs.

• Use standardized protocols for needs assessment, delivery of training and technical assistance, evaluation, tracking, and followup.

• Be sensitive to diverse cultural and ethnic needs.

Eligibility Requirements

OJJDP invites applications from public and private nonprofit agencies, organizations, institutions, or individuals. Private, for-profit organizations must agree to waive any profit or fee.

Selection Criteria

Applications will be rated by a peer review panel according to the criteria outlined below. A site visit may be conducted to confirm information provided in the application.

Need(s) To Be Addressed (15 points)

Applicants must clearly demonstrate an understanding of the need(s) to be addressed by the program and the issues relevant to current delinquency prevention and juvenile justice system programs and practices. Specific attention should be given to demonstrating an understanding of the problems associated with local community planning and the reallocation of resources.

Goals and Objectives (10 points)

Applicants must provide succinct statements that demonstrate an understanding of the goals and objectives associated with the program. Training and technical assistance related to the objectives must be clearly stated and measurable.

Project Design (30 points)

Applicants must present a project design that is specific and constitutes an effective approach to meeting the goals and objectives of this program. The design must include a detailed workplan with timelines that link the training and technical assistance tasks to each of the program's stated objectives. Applicants must demonstrate how these activities will achieve the program's overall goal. The design must provide protocols for assessing technical assistance and training needs and protocols for delivering technical assistance. The design must also describe the process and structure that will be used for presentation development and demonstrate how adult learning theory will be employed. Applicants should specify how the problems associated with developing programs within a community will be overcome and what approach will be used to inventory the range of prevention and graduated sanctions programs. Applicants should also specifically describe their understanding of the Juvenile Justice and Delinquency Prevention Act of 1974 and the relationship of the State and local communities contained therein. Competitive applications will clearly discuss how training and technical assistance will be delivered in each of the identified TCAP areas in the program strategy outlined above.

Project Management (25 points)

Applicants must discuss how they will coordinate and manage the program to achieve the training and technical assistance objectives. An applicant's management structure and staffing must be adequate and appropriate for the successful implementation of the project and must identify a program manager who is experienced in delivering successful training and technical assistance. Applicants must describe an organizational framework, managerial structure, and staffing approach that are capable of effectively executing the TCAP effort. Applicants need to have available a pool of consultants with high levels of expertise in juvenile justice and must be able to identify responsible individuals, their time commitment, and the assignment of major tasks under this project. When choosing consultants, it is important to consider their experience in designing and delivering training and technical assistance on a national level. Key staff should have significant experience with the delivery of training and technical assistance and some combination of experience with community planning and juvenile justice programming.

Competitive applications will clearly demonstrate (1) the ability to attract seasoned experts who understand current juvenile justice programs and trends and (2) the ability to develop program materials and a management structure that support the deployment of consultants and the delivery of services. Competitive applications will also demonstrate (1) the ability to develop partnerships with other agencies and organizations having expertise that expands the knowledge and experience base of the grantee and (2) prior experience in the management of multifaceted projects employing the use of one or more contractors.

Organizational Capability (10 points)

Applicants should clearly demonstrate their ability to administer the initiative effectively. Documentation should include organizational and/or staff experience in the subject areas described above under “Program Strategy” and successful experience in managing the finances of Federal grants and cooperative agreements. The application should also clearly describe how the grant will be managed as a free-standing operation within the applicant's organization. Applicants must also describe and demonstrate professional competency to offer cutting-edge technical assistance approaches and an organizational infrastructure that will support the technological and resource requirements of this program. Applicants may find it more cost effective to use contractors to develop and provide some of the required training and technical or specialized products.

Budget (10 points)

Applicants must provide a proposed budget that is detailed, reasonable, and cost effective for the activities to be undertaken. Competitive applications will budget for tangible training resources that will assist program participants with the daily operation of juvenile justice programs (e.g., software, training manuals, and technical assistance bulletins) and will support selected program sites.

Application Format

The application narrative must not exceed 30 pages in length (excluding forms, assurances, and appendixes) and must be submitted on 8½- by 11-inch paper, double spaced on one side of the paper, and printed in a standard 12-point font. The double-spacing requirement applies to all parts of the program narrative and project abstract, including any lists, tables, bulleted items, or quotations. These standards are necessary to maintain fair and uniform considerations among all applicants. If the narrative does not conform to these standards, OJJDP will deem the application ineligible for consideration.

Award Period

The project will be funded as a cooperative agreement for 3 years in three 1-year budget periods. Funding after the first budget period depends on the availability of funds, grantee performance, and other criteria established at the time of award.

Award Amount

Up to $800,000 is available for the first year of the budget period.

Catalog of Federal Domestic Assistance (CFDA) Number

For this program, the CFDA number, which is required on Standard Form 424, Application for Federal Assistance, is 16.542. Form 424 is included in the OJJDP Application Kit, which can be obtained by calling the Juvenile Justice Clearinghouse at 800-638-8736 or sending an e-mail request to puborder@ncjrs.org. The Application Kit is also available online at www.ojjdp.ncjrs.org/grants/about.html#kit.

Coordination of Federal Efforts

To encourage better coordination among Federal agencies in addressing State and local needs, the U.S. Department of Justice (DOJ) is requiring applicants to provide information on the following: (1) Active Federal grant award(s) supporting this or related efforts, including awards from DOJ; (2) any pending application(s) for Federal funds for this or related efforts; and (3) plans for coordinating any funds described in items (1) or (2) with the funding sought by this application. For each Federal award, applicants must include the program or project title, the Federal grantor agency, the amount of the award, and a brief description of its purpose. The term “related efforts” is defined for these purposes as one of the following:

1. Efforts for the same purpose (i.e., the proposed award would supplement, expand, complement, or continue activities funded with other Federal grants).

2. Another phase or component of the same program or project (e.g., to implement a planning effort funded by other Federal funds or to provide a substance abuse treatment or education component within a criminal justice project).

3. Services of some kind (e.g., technical assistance, research, or evaluation) to the program or project described in the application.

Delivery Instructions

All applicants must submit the original application (signed in blue ink) and five copies. Applications should be unbound and fastened by a binder clip in the top left-hand corner.

OJJDP strongly recommends that applicants number each page of the application. To ensure that applications are received by the due date, applicants should use a mail service that documents the date of receipt. Because OJJDP anticipates sending applicants written notification of application receipt approximately 4 weeks after the solicitation closing date, applicants are encouraged to use a traceable shipping method. Faxed or e-mailed applications will not be accepted. Postmark dates will not be accepted as proof of meeting the deadline. Applications received after September 3, 2002, will be deemed late and may not be accepted. The closing date and time apply to all applications. To ensure prompt delivery, please adhere to the following guidelines:

Applications Sent by U.S. Mail

Use registered mail to send applications to the following address: Office of Juvenile Justice and Delinquency Prevention, c/o Juvenile Justice Resource Center, 2277 Research Boulevard, Mail Stop 2K, Rockville, MD 20850. In the lower left-hand corner of the envelope, clearly write “Targeted Community Action Planning: An Intensive Technical Assistance Program.”

Applications Sent by Overnight Delivery Service

Allow at least 48 hours for delivery. Send applications to the following address: Office of Juvenile Justice and Delinquency Prevention, c/o Juvenile Justice Resource Center, 2277 Research Boulevard, Mail Stop 2K, Rockville, MD 20850; 800-638-8736 (phone number required by some carriers). In the lower left-hand corner of the envelope, clearly write “Targeted Community Action Planning: An Intensive Technical Assistance Program.”

Applications Delivered by Hand

Deliver by September 3, 2002, to the Juvenile Justice Resource Center, 2277 Research Boulevard, Rockville, MD 20850; 301-519-5535. Hand deliveries will be accepted daily between 8:30 a.m. and 5:00 p.m. EST, excluding Saturdays, Sundays, and Federal holidays. Entrance to the resource center requires proper photo identification.

Due Date

Applicants are responsible for ensuring that the original and five copies of the application package are received by September 3, 2002.

Contact

For further information, contact Dennis M. Mondoro, Program Manager, State and Tribal Assistance Division, Office of Juvenile Justice and Delinquency Prevention, at 202-514-3913, or send an e-mail inquiry to mondorod@ojp.usdoj.gov.

Dated: July 19, 2002.
William Woodruff,
Deputy Administrator, Office of Juvenile Justice and Delinquency Prevention.

[FR Doc. 02-19452 Filed 7-31-02; 8:45 am]

BILLING CODE 4410-18-P